DEPARTMENT OF THE INTERIOR

Bureau of Land Management

[LLIDI03000.L12200000.MA0000.223]

Notice of Closure of Public Lands at Challis Bridge Recreation Site in Custer County, Idaho

AGENCY: Bureau of Land Management, Interior.

ACTION: Notice of closure.

SUMMARY: The Bureau of Land Management (BLM) is giving notice that 11.5 acres of public lands within the Challis Bridge Recreation Site is closed to all activities and forms of access. The closure is for the protection of public health and safety due to excessive flooding and ice jams within the recreation site.

DATES: The Challis Bridge Recreation Site will be closed until safe conditions return or April 30, 2022, whichever occurs sooner.

ADDRESSES: The BLM will post closure signs at the main entry point to the Challis Bridge Recreation Site. The closure order will be posted in the Challis Field Office. Information about the closure can be found at https://www.blm.gov/press-release/temporary-emergency-closure-public-lands-within-challis-bridge-day-use-site. Maps of the affected area and other documents associated with this closure are available at the Challis Field Office, 721 East Main Avenue, Suite 8, Challis, ID 83226 or may be requested through email: BLM_ID_ChallisOffice@blm.gov.

FOR FURTHER INFORMATION CONTACT: Matthew Marsh, Challis Field Office Manager, 721 East Main Avenue, Suite 8, Challis, ID 83226 (physical address), P.O. Box 817, Challis, ID 83226 (mailing address), (208) 879-6200. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This closure affects public lands at the Challis Bridge Recreation Site, Custer County, Idaho. The closure affects 11.5 acres of BLM-managed public land within the site. The legal description of the affected public lands is section 10, Township 13 North, Range 19 East, Boise Meridian, Idaho. Under the authority of Section 303(a) of the Federal Land Policy and Management Act of 1976 (43 U.S.C. 1733(a)), 43 CFR 8360.0-7, and 43 CFR 8364.1, the BLM will enforce the following closure within the Challis Bridge Recreation Site.

Closure: The Challis, Idaho region has experienced extended periods of freezing to below freezing temperatures resulting in excessing flooding and ice jams along the Salmon River. For the protection of public health and safety, the BLM is closing the Challis Bridge Recreation Site until water levels and weather conditions improve. All activities and forms of access are prohibited within the closure area.

Exemptions: The following persons are exempt from this order: Federal, State, and local officers and employees in the performance of their official duties; members of organized rescue or fire-fighting forces in the performance of their official duties; and persons with written authorization from the BLM.

Enforcement: Any person who violates this closure or these restrictions may be tried before a United States Magistrate and fined in accordance with 18 U.S.C. 3571, imprisoned no more than 12 months under 43 U.S.C. 1733(a) and 43 CFR 8360.07, or both. In accordance with 43 CFR 8365.1-7, state or local officials may also impose penalties for violations of Idaho law.

Authority: 43 CFR 8364.1.

Mary D'Aversa,
District Manager, Idaho Falls District.

[FR Doc. 2022-09205 Filed 4-28-22; 8:45 am]

BILLING CODE 4310-GG-P